DEPARTMENT OF JUSTICE

[CPCLO Order No. 011-2012]

Privacy Act of 1974; System of Records

AGENCY: Office of Community Oriented Policing Services, United States Department of Justice.

ACTION: Notice of a New System of Records.

SUMMARY: Pursuant to the Privacy Act of 1974 (5 U.S.C. 552a), the United States Department of Justice, Office of Community Oriented Policing Services (COPS) proposes to establish a new system of records entitled, “COPS Online Ordering System,” (JUSTICE/COPS-002). The system collects contact and order information from individuals who request free knowledge resource products on community policing topics through the COPS Resource Information Center (RIC), or other COPS-related information, via requests through the COPS Web site, or requests sent in by mail, telephone, or fax.

DATES: In accordance with 5 U.S.C. 552a(e)(4) and (11), the public is given a 30-day period in which to comment. Therefore, please submit any comments by June 15, 2012.

ADDRESSES: The public, Office of Management and Budget (OMB), and Congress are invited to submit any comments to the Department of Justice, ATTN: Privacy Analyst, Office of Privacy and Civil Liberties, U.S. Department of Justice, National Place Building, 1331 Pennsylvania Ave. NW., Suite 1000, Washington, DC 20530-0001, or by facsimile to (202) 307-0693.

FOR FURTHER INFORMATION CONTACT: Barton Day, Information Technology Operations Manager, COPS, 145 N Street NE., Washington, DC 20530, phone (202) 305-8840.

SUPPLEMENTARY INFORMATION: Community policing is a philosophy that promotes organizational strategies, which support the systematic use of partnerships and problem-solving techniques to proactively address the immediate conditions that give rise to public safety issues such as crime, social disorder, and fear of crime.

COPS advances the practice of community policing in America's state, local, and tribal law enforcement agencies through information-sharing and grant-making. The knowledge resource products available from COPS provide essential information in the form of best practices for law enforcement, problem-oriented policing guides addressing crime-related problems, and publications composed by subject-matter experts on topics ranging from bullying in schools to computer mapping.

The COPS Online Ordering System facilitates the distribution of free COPS knowledge resource products and updates (e.g., publications, best practices guides, etc.) on a wide range of community policing topics, and it authorizes system users to effectively search, integrate, display, maintain and record information in support of the COPS's community policing mission.

In accordance with 5 U.S.C. 552a(r), the Department has provided a report to OMB and to Congress on this system of records.

Dated: April 30, 2012.
Nancy C. Libin,
Chief Privacy and Civil Liberties Officer, United States Department of Justice.

JUSTICE/COPS-002

SYSTEM NAME:

COPS Online Ordering System.

SECURITY CLASSIFICATION:

Unclassified.

SYSTEM LOCATION:

Records are maintained at two locations where the Office of Community Oriented Policing Services (COPS) operations are supported: 145 N Street NE., Washington, DC 20530, and 1151-D Seven Locks Road, Rockville, MD 20854. Contact information is listed on the COPS Internet Web site, http://www.cops.usdoj.gov/.

CATEGORIES OF INDIVIDUALS COVERED BY THE SYSTEM:

Individuals who submit requests via online order forms on the COPS Internet Web site, or via other means such as mail, telephone, or fax, to receive free COPS knowledge resource products or other COPS-related information. These individuals include, but are not limited to, law enforcement officers, government officials, scholars, researchers, and members of the general public.

CATEGORIES OF RECORDS IN THE SYSTEM:

The COPS Online Ordering System contains contact information for requesters, including names, organizations, organization types, agency types, titles, street addresses, phone numbers, fax numbers, and email addresses. The system also contains order information, such as a requester's preferences regarding products or information to be provided and future updates.

AUTHORITY FOR MAINTENANCE OF THE SYSTEM:

General authority for COPS mission activities includes the Violent Crime Control and Law Enforcement Act of 1994 (Pub. L. 103-322) and the Violence Against Women and Department of Justice Reauthorization Act of 2005 (Pub. L. 109-162). Specifically, COPS is authorized to provide technical assistance to States, units of local government, Indian tribal governments, and public and private entities to advance community policing.

PURPOSE(S):

The system collects contact and order information from individuals who request specific COPS knowledge resource products, or other COPS-related information, for the purpose of assisting COPS in managing and responding to such requests.

ROUTINE USES OF RECORDS MAINTAINED IN THE SYSTEM, INCLUDING CATEGORIES OF USERS AND THE PURPOSES OF SUCH USES:

In addition to those disclosures generally permitted under 5 U.S.C. 552a(b), all or a portion of the records or information contained in this system may be disclosed outside the Department as a routine use pursuant to 5 U.S.C. 552a(b)(3) under the circumstances and for the purposes described below, to the extent such disclosures are compatible with the purposes for which the information was collected:

A. To the news media and the public, including disclosures pursuant to 28 CFR 50.2, unless it is determined that release of the specific information in the context of a particular case would constitute an unwarranted invasion of personal privacy.

B. To a Member of Congress or staff acting upon the Member's behalf when the Member or staff requests the information on behalf of, and at the request of, the individual who is the subject of the record.

C. To the National Archives and Records Administration for purposes of records management inspections conducted under the authority of 44 U.S.C. 2904 and 2906.

D. To appropriate agencies, entities, and persons when (1) the Department suspects or has confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy such harm.

E. To contractors, grantees, experts, consultants, students, and others performing or working on a contract, service, grant, cooperative agreement, or other assignment for the federal government, when necessary to accomplish an agency function related to this system of records.

F. To a former employee of the Department for purposes of: Responding to an official inquiry by a federal, state, or local government entity or professional licensing authority, in accordance with applicable Department regulations; or facilitating communications with a former employee that may be necessary for personnel-related or other official purposes where the Department requires information and/or consultation assistance from the former employee regarding a matter within that person's former area of responsibility.

G. Where a record, either alone or in conjunction with other information, indicates a violation or potential violation of law—criminal, civil, or regulatory in nature—the relevant records may be referred to the appropriate federal, state, local, territorial, tribal, or foreign law enforcement authority or other appropriate entity charged with the responsibility for investigating or prosecuting such violation or charged with enforcing or implementing such law.

H. To such recipients and under such circumstances and procedures as are mandated by federal statute or treaty.

I. In an appropriate proceeding before a court, grand jury, or administrative or adjudicative body, when the Department of Justice determines that the records are arguably relevant to the proceeding; or in an appropriate proceeding before an administrative or adjudicative body when the adjudicator determines the records to be relevant to the proceeding.

DISCLOSURE TO CONSUMER REPORTING AGENCIES:

None.

POLICIES AND PRACTICES FOR STORING, RETRIEVING, ACCESSING, RETAINING, AND DISPOSING OF RECORDS IN THE SYSTEM:

STORAGE:

Records in this system are stored on paper and/or in electronic form. Records are stored securely in accordance with applicable executive orders, statutes, and agency implementation recommendations.

RETRIEVABILITY:

Information is retrieved by an individual's name or other identifying information.

SAFEGUARDS:

Information in this system is safeguarded in accordance with appropriate laws, rules, and policies, including the Department's automated systems security and access policies. Records and technical equipment are maintained in buildings with restricted access. The required use of password protection identification features and other system protection methods also restrict access. Access is limited to those who have an official need for access to perform their official duties. Electronic records are accessed only by authorized personnel with accounts on the COPS computer network. Additionally, direct access to certain information may be restricted depending on a user's role and responsibility within the system. Paper records are safeguarded in accordance with appropriate laws, rules, and policies based on the classification and handling restrictions of the particular document.

RETENTION AND DISPOSAL:

Records are destroyed three years after the calendar year in which the information was collected, Disposition Authority N1-060-10-023, item 001.

SYSTEM MANAGER(S) AND ADDRESS:

Information Technology Operations Manager, COPS, 145 N Street NE., Washington, DC 20530.

NOTIFICATION PROCEDURE:

Same as the Record Access Procedures, below.

RECORDS ACCESS PROCEDURES:

Requests for access to a record in this system must be in writing and should be addressed to the System Manager named above. The envelope and the letter should be clearly marked “Privacy Act Request.” Requests for access to records must comply with the Department's Privacy Act regulations set forth in 28 CFR subpart D (Protection of Privacy and Access to Individual Records Under the Privacy Act of 1974). The request should include a description of the records sought and must include sufficient information to verify identity, including the requester's full name, current address, and place and date of birth. The request must be signed and dated and either notarized or submitted under 28 U.S.C. 1746, a law that permits statements to be made under penalty of perjury as a substitute for notarization. While no specific form is required, you may obtain a form (Form DOJ-361) for use in certification of your identity by writing to the FOIA/PA Mail Referral Unit, Department of Justice, Room 115, LOC Building, Washington, DC 20530-0001, or by visiting the Department's Web site at http://www.justice.gov/oip/forms/cert_ind.pdf.

CONTESTING RECORD PROCEDURES:

Requests for amendment or correction of information maintained in the system should be directed to the System Manager and follow the Record Access Procedures provided above. In addition, the request should also comply with the provisions of 28 CFR 16.46, which include requirements to identify each particular record in question and state clearly and concisely what information is being contested, the reasons for contesting it, and the proposed amendment or correction desired. (Individuals may also submit changes to contact or order information by updating their account information on the COPS Web site.)

RECORD SOURCE CATEGORIES:

Information contained in this system is provided by individuals who submit requests for COPS knowledge resource products or other COPS-related information.

EXEMPTIONS CLAIMED FOR THE SYSTEM:

None.

[FR Doc. 2012-11908 Filed 5-15-12; 8:45 am]

BILLING CODE 4410-01-P